ENVIRONMENTAL PROTECTION AGENCY

[FRL-10017-41-OA]

Notification of a Closed Meeting of the Science Advisory Board 2020 Scientific and Technological Achievement Awards Committee

AGENCY: Environmental Protection Agency (EPA).

ACTION: Notice.

SUMMARY: The Environmental Protection Agency (EPA) Science Advisory Board (SAB) Staff Office announces a meeting of the Scientific and Technological Achievement Awards (STAA) Committee. The purpose of the meeting is to review the 2020 STAA nominations and to make recommendations for awards. The meeting is closed to the public.

DATES: The meeting of the SAB STAA Committee will be held on Monday, January 11, 2021 and Tuesday, January 12, 2021, from 11 a.m. to 6 p.m. (Eastern Time) each day.

FOR FURTHER INFORMATION CONTACT: Members of the public who wish to obtain further information concerning this notice may contact Dr. Zaida Figueroa, Designated Federal Officer (DFO), via email at figueroa.zaida@epa.gov. General information about the SAB as well as any updates concerning the meetings announced in this notice can be found on the SAB website at http://www.epa.gov/sab.

SUPPLEMENTARY INFORMATION:

Background: The SAB was established pursuant to the Environmental Research, Development, and Demonstration Authorization Act (ERDDAA), codified at 42 U.S.C. 4365, to provide independent scientific and technical advice to the EPA Administrator on the scientific and technical basis for agency positions and regulations. The SAB is a Federal Advisory Committee chartered under the Federal Advisory Committee Act (FACA), 5 U.S.C., App. 2. The SAB will comply with the provisions of FACA and all appropriate SAB Staff Office procedural policies. Pursuant to FACA and EPA policy, notice is hereby given that the Science Advisory Board Scientific and Technological Achievement Awards (STAA) Committee, will hold a closed meeting to review the 2020 STAA nominations and to make recommendations for awards and recommendations for improvement of the Agency's STAA program.

The STAA awards are established to honor and recognize EPA employees who have made outstanding contributions in the advancement of science and technology through their research and development activities, as exhibited in publication of their results in peer reviewed journals. In conducting its review, the SAB considers each nomination in relation to the following four award levels:

• Level I awards are for those who have accomplished an exceptionally high-quality research or technological effort. The awards recognize the creation or general revision of a scientific or technological principle or procedure, or a highly significant improvement in the value of a device, activity, program, or service to the public. Awarded research is of national significance or has high impact on a broad area of science/technology. The research has far reaching consequences and is recognizable as a major scientific/technological achievement within its discipline or field of study.

• Level II awards are for those who have accomplished a notably excellent research or technological effort that has qualities and values similar to, but to a lesser degree, than those described under Level I. Awarded research has timely consequences and contributes as an important scientific/technological achievement within its discipline or field of study.

• Level III awards are for those who have accomplished an unusually notable research or technological effort. The awards are for a substantial revision or modification of a scientific/technological principle or procedure, or an important improvement to the value of a device, activity, program, or service to the public. Awarded research relates to a mission or organizational component of the EPA, or significantly affects a relevant area of science/technology.

• Honorable Mention awards acknowledge research efforts that are noteworthy but do not warrant a Level I, II or III award. Honorable Mention applies to research that: (1) May not quite reach the level described for a Level III award; (2) show a promising area of research that the Subcommittee wants to encourage; or (3) show an area of research that the Subcommittees feels is too preliminary to warrant an award recommendation at this time.

The SAB reviews the STAA nomination packages according to the following five evaluation factors:

• The extent to which the work reported in the nominated publication(s) resulted in either new or significantly revised knowledge. The accomplishment is expected to represent an important advancement of scientific knowledge or technology relevant to environmental issues and EPA's mission.

• The extent to which environmental protection has been strengthened or improved, whether of local, national, or international importance.

• The degree to which the research is a product of the originality, creativeness, initiative, and problem-solving ability of the researchers, as well as the level of effort required to produce the results.

• The extent of the beneficial impact of the research and the degree to which the research has been favorably recognized from outside EPA.

• The nature and extent of peer review, including stature and quality of the peer-reviewed journal or the publisher of a book for a review chapter published therein.

I have determined that the meetings of the STAA Committee and Chartered SAB will be closed to the public because they are concerned with selecting employees deserving of awards. In making these recommendations, the Agency requires full and frank advice from the SAB. This advice will involve professional judgments on the relative merits of various employees and their respective work. Such personnel matters involve the discussion of information that is of a personal nature and the disclosure of which would be a clearly unwarranted invasion of personal privacy and, therefore, are protected from disclosure by section 10(d) of the Federal Advisory Committee Act (FACA), 5 U.S.C. App. 2, and sections (c)(2) and (c)(6) of the Government in the Sunshine Act, 5 U.S.C. 552b(c)(2) and (6). Minutes of the meetings of the STAA Committee and the Chartered SAB will be kept and certified by the chair of those meetings.

Andrew Wheeler,
Administrator.

[FR Doc. 2020-26996 Filed 12-8-20; 8:45 am]

BILLING CODE 6560-50-P